DEPARTMENT OF COMMERCE

Foreign-Trade Zones Board

[B-64-2012]

Foreign-Trade Zone 59—Lincoln, NE, Notification of Proposed Production Activity; Novartis Consumer Health, Inc. (Pharmaceutical Products and Related Preparations Production), Lincoln, NE

Novartis Consumer Health, Inc. (Novartis) submitted a notification of proposed production activity for the company's facilities located within Sites 3 and 4 of FTZ 59, in Lincoln, Nebraska. The facilities are used for the production of dosage-form and bulk-quantity mixed medicines, including those containing penicillin, alkaloids, analgesics, antibiotics, antihistamine/decongestants, cold remedies, anti-infectives, dermatological and anesthetic agents, digestive treatments, insulin, vitamins, and hormones; vitamins and provitamins; food preparations, including those containing fiber and various digestive products, lozenges, nicotine gum, and cold symptom products; preparations for skincare; pharmaceutical reference standards; and medicines for veterinary use.

Production under FTZ procedures could exempt Novartis from customs duty payments on the foreign-status components used in export production. On its domestic sales, Novartis would be able to choose the duty rates during customs entry procedures that apply to the finished products (mostly duty-free, but some would be up to 6.4 percent for certain food preparations) for the foreign-status inputs noted below. Customs duties also could possibly be deferred or reduced on foreign status production equipment.

Components and materials sourced from abroad include: Menthol; ibuprofen; sodium salicylate (USP); aspirin; terbinafine; diphenhydramine citrate (USP); diclofenac sodium; acetaminophen; rivastigmine hydrogen tartrate; tolnaftate (USP/EP); lansoprazole; loratadine; pyrilamine maleate (USP); dextromethorphan HBR (USP); clemastine fumarate; clomipramine hydrochloride; acesulfame K; benzalkonium chloride; microcrystalline cellulose; inulin; aloe vera gel; carrageenan (viscarin GP109F); wheat dextrin; insulin; benzyl alcohol NF; camphor USP; synthetic; anhydrous citric acid USP/EP find grain; butylparaben NF; methylparaben NF; diphenhydramine citrate USP; aspartame NF; aspartame; coated acetaminophen crystals; xylometazoline HCL; heterocyclic compounds; dextromethorphan hydrobromide USP; crospovideone NF; polyplasdone xl-10; clomicalm A.S.; isradipine (USP); desiccant; croscarmellose sodium NF; microcellulose; bulk penicillin mixed medicines; bulk mixed drugs; including penicillins; antibiotics; hormones; and alkaloids; caffeine; dextrins and modified starches; gums; guar gum; oleoresins; balsam gum; ginseng; vegetable extracts and similar thickeners; iron oxides and hydroxides; disodium carbonate; carbonates; flavoring compounds; aniline derivative compounds; amino-alcohol-phenols; amino-acid-phenols; other nitrile function compounds; other antihistamine chemicals; other vegetable alkaloids and derivatives; articles of plastic, including bands, bags and fiber drum liners, bottles, plugs, caps, drums, tubes, packaging materials, droppers, stoppers, dispensing tubes, plug dip tubes, dosage cups and syringes; stopper dip tube assemblies; aluminum collapsible tubes; aluminum containers; artificial flavors; pine needle oil; benorilate; and sodium cyclamate (duty rates range from duty free to 6.5%).

Public comment is invited from interested parties. Submissions shall be addressed to the Board's Executive Secretary at the address below. The closing period for their receipt is October 1, 2012.

A copy of the notification will be available for public inspection at the Office of the Executive Secretary; Foreign-Trade Zones Board; Room 21013; U.S. Department of Commerce; 1401 Constitution Avenue NW., Washington, DC 20230-0002; and in the “Reading Room” section of the Board's Web site; which is accessible via www.trade.gov/ftz.

For further information; contact Diane Finver at Diane.Finver@trade.gov or (202) 482-1367.

Dated: August 14, 2012.
Andrew McGilvray,
Executive Secretary.

[FR Doc. 2012-20547 Filed 8-20-12; 8:45 am]

BILLING CODE P